EQUAL EMPLOYMENT OPPORTUNITY COMMISSION

Sunshine Act Notice

TIME AND DATE: Tuesday, January 14, 2025, 10:00 a.m. Eastern Time

PLACE: The meeting will be held at the Jacqueline A. Berrien Training Center, 131 M Street NE, Washington, DC 20507.

STATUS: The meeting will be closed to the public.

MATTERS TO BE CONSIDERED:

Closed Session

• Pending Proposed Subpoena Determination(s)

• Pending Litigation Recommendations(s)

• Agency Adjudication and Determination on Federal Agency Discrimination Complaint Appeal(s)

Note: The Legal Counsel has certified that, in the Legal Counsel's opinion, the Commission meeting scheduled for January 14, 2025 (and any portions of any subsequent meetings to which those same matters may be carried over) concerning a proposed subpoena determination(s), pending litigation recommendation(s) and federal agency discrimination complaint appeal(s) may properly be closed under the third, sixth, seventh, and tenth exemptions to the Government in the Sunshine Act, 5 U.S.C. 552b(c)(3), (6), (7), and (10), and Commission regulations at 29 CFR 1612.4(c), (f), (g), and (j).

In accordance with the Sunshine Act, because this meeting is closed, the public will not be able to observe/listen to the Commission's deliberations and voting.

Please telephone (202) 921-2750 (voice) or email commissionmeetingcomments@eeoc.gov at any time for information on this meeting. Please telephone (202) 921-2750, or email commissionmeetingcomments@eeoc.gov at any time for information on this meeting.

CONTACT PERSON FOR MORE INFORMATION: Raymond D. Windmiller, Executive Officer, (202) 921-2705.

Dated: January 6, 2025.
Raymond D. Windmiller,
Executive Officer, Executive Secretariat.

[FR Doc. 2025-00549 Filed 1-8-25; 4:15 pm]

BILLING CODE 6570-01-P